DEPARTMENT OF THE INTERIOR

Fish and Wildlife Service

[Docket No. FWS-HQ-MB-2020-0012; FF09M21200-201-FXMB1231099BPP0]

RIN 1018-BE34

Migratory Bird Hunting; Service Regulations Committee and Flyway Council Meetings

AGENCY: Fish and Wildlife Service, Interior.

ACTION: Announcement of meetings.

SUMMARY: The U.S. Fish and Wildlife Service (Service or we) Migratory Bird Regulations Committee (SRC) will conduct an open meeting on April 28, 2020, to identify and discuss preliminary issues concerning the 2021-2022 migratory bird hunting regulations. We will conduct another meeting in October 2020 to review information on the status of migratory game birds and develop 2021-2022 migratory game bird regulations recommendations for these species. In accordance with Departmental policy, these meetings are open to public observation.

DATES: SRC meeting: The Service Regulations Committee meeting will be held April 28, 2020. The meeting will commence at approximately 12:00 p.m. (Eastern) and is open to the public. The meeting will be conducted telephonically with the aid of video technology. Details will be posted at https://www.fws.gov/birds/ when they become available.

Accommodation requests: Please submit all requests for meeting accommodations by the close of business on April 20, 2020. See Meeting Accommodations, below, for more information.

ADDRESSES: Meeting details with web links and telephone numbers will be posted at https://www.fws.gov/birds/ when they become available.

FOR FURTHER INFORMATION CONTACT: Ken Richkus, U.S. Fish and Wildlife Service, Department of the Interior, MS: MB, 5275 Leesburg Pike, Falls Church, VA 22041-3803; (703) 358-1780.

SUPPLEMENTARY INFORMATION:

Under the authority of the Migratory Bird Treaty Act (16 U.S.C. 703-712), the Service regulates the hunting of migratory game birds. We update the migratory game bird hunting regulations, located in title 50 of the Code of Federal Regulations in part 20 (50 CFR part 20), annually. Through these regulations, we establish the frameworks, or outside limits, for season lengths, bag limits, and areas for migratory game bird hunting. Acknowledging regional differences in hunting conditions, the Service has administratively divided the Nation into four Flyways for the primary purpose of managing migratory game birds. Each Flyway (Atlantic, Mississippi, Central, and Pacific) has a Flyway Council, a formal organization generally composed of one member from each State and Province in that Flyway. The Flyway Councils, established through the Association of Fish and Wildlife Agencies, assist in researching and providing migratory game bird management information for Federal, State, and Provincial governments, as well as private conservation entities and the public.

The process for adopting migratory game bird hunting regulations, located in 50 CFR part 20, is constrained by three primary factors. Legal and administrative considerations dictate how long the rulemaking process will last. Most importantly, however, the biological cycle of migratory game birds controls the timing of data-gathering activities and thus the dates on which these results are available for consideration and deliberation.

For the regulatory cycle, Service biologists gather, analyze, and interpret biological survey data and provide this information to all those involved in the process through a series of published status reports and presentations to Flyway Councils and other interested parties. Because the Service is required to take abundance of migratory game birds and other factors into consideration, the Service undertakes a number of surveys throughout the year in conjunction with Service Regional Offices, the Canadian Wildlife Service, and State and Provincial wildlife-management agencies. To determine the appropriate frameworks for each species, we consider factors such as population size and trend, geographical distribution, annual breeding effort, condition of breeding and wintering habitat, number of hunters, and anticipated harvest. After frameworks are established for season lengths, bag limits, and areas for migratory game bird hunting, States may select season dates, bag limits, and other regulatory options for the hunting seasons. States may always be more conservative in their selections than the Federal frameworks, but never more liberal.

Upcoming Meetings

The SRC will conduct an open meeting on April 28, 2020, to identify and discuss preliminary issues concerning the 2021-2022 migratory bird hunting regulations. We will conduct another meeting in October 2020 to review information on the status of migratory game birds and develop 2021-2022 migratory game bird regulations recommendations for these species. In accordance with Departmental policy, these meetings are open to public observation. In addition, Service representatives attended the individual meetings of the four Flyway Councils in March and will reassess attending the August-October Flyway Council meetings. We will provide the meeting dates, commencement times, and locations for the SRC and Flyway Council meetings on our website at https://www.fws.gov/birds/management/flyways.php as this information becomes available. If these meetings are not held in person, these meetings may be conducted telephonically with or without the aid of video technology.

Meeting Accommodations

The Service is committed to providing access to the April 28, 2020, SRC meeting for all participants. Please direct all requests for sign language interpreting services, closed captioning, or other accommodation needs to the person listed under FOR FURTHER INFORMATION CONTACT with your request by close of business on April 20, 2020. If you use a telecommunications device for the deaf (TDD), call the Federal Relay Service at 800-877-8339.

Aurelia Skipwith,
Director, U.S. Fish and Wildlife Service.

[FR Doc. 2020-07504 Filed 4-8-20; 8:45 am]

BILLING CODE 4333-15-P